ENVIRONMENTAL PROTECTION AGENCY

[EPA-HQ-OW-2009-0089; FRL-8914-9]

Agency Information Collection Activities; Proposed Renewal of Information Collection; Comment Request; Agency Information Collection Activities Supporting the Second Cycle of Unregulated Contaminant Monitoring in Public Water Systems; EPA ICR No. 2192.03, OMB Control No. 2040-0270

AGENCY: Environmental Protection Agency.

ACTION: Notice and request for comments.

SUMMARY: In compliance with the Paperwork Reduction Act (PRA) (44 U.S.C. 3501 et seq.), this document announces that EPA is planning to submit a request to renew an existing approved Information Collection Request (ICR) to the Office of Management and Budget (OMB) (OMB Control No. 2040-0270). This ICR is scheduled to expire on November 30, 2009. Before submitting the proposed information collection renewal to OMB for review and approval, EPA is requesting public comments on this submission, as described below.

DATES: Comments must be submitted on or before August 10, 2009.

ADDRESSES: Submit your comments, identified by Docket ID No. EPA-HQ-OW-2009-0089, by one of the following methods:

• http://www.regulations.gov. Follow the on-line instructions for submitting comments.

• E-mail: OW-Docket@epa.gov.

• Mail: Water Docket, United States Environmental Protection Agency, Mail Code 4101T, 1200 Pennsylvania Avenue, NW., Washington, DC 20460, Attention Docket ID No. OW-2009-0089.

• Hand Delivery: Deliver your comments to Water Docket, EPA Docket Center, Environmental Protection Agency, Room B102, 1301 Constitution Ave., NW., Washington, DC, Attention Docket ID No. OW-2009-0089. Such deliveries are only accepted during the Docket's normal hours of operation, and special arrangements should be made for deliveries of boxed information.

Instructions: Direct your comments to Docket ID No. EPA-OW-2009-0089. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. Please contact EPA prior to submitting CBI. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: David J. Munch, Technical Support Center, Office of Ground Water and Drinking Water, United States Environmental Protection Agency, Office of Water, 26 West Martin Luther King Drive (MS 140), Cincinnati, OH 45268, telephone (513) 569-7843; e-mail address munch.dave@epa.gov. For general information, contact the Safe Drinking Water Hotline. Callers within the United States may reach the Hotline at (800) 426-4791. The Hotline is open Monday through Friday, excluding legal holidays, from 10 a.m. to 4 p.m., eastern time.

SUPPLEMENTARY INFORMATION:

How Can I Access the Docket and/or Submit Comments?

EPA has established a public docket for this ICR under Docket ID No. EPA-OW-2009-0089, which is available for online viewing at www.regulations.gov, or in-person viewing at the Water Docket, EPA/DC, EPA West, Room B102, 1301 Constitution Avenue, NW., Washington, DC. This Public Reading Room is open from 8:30 a.m. to 4:30 p.m., eastern time, Monday through Friday, excluding legal holidays. The telephone number for the Public Reading Room is (202) 566-1744, and the Water Docket is (202) 566-2426.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the Paperwork Reduction Act (PRA), EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are Public Water Systems (PWSs). States, Territories, and Tribes with primacy to administer the regulatory program for PWSs under the Safe Drinking Water Act (SDWA) may participate in implementation of the second Unregulated Contaminant Monitoring Regulation (UCMR 2) through a Partnership Agreement (PA). These primacy agencies may sometimes conduct monitoring and maintain records. The North American Industry Classification System (NAICS) code for PWSs is 221310. The NAICS codes for State agencies that include drinking water programs are 924110 (Administration of Air and Water Resources and Solid Waste Management Programs) and 923120 (Administration of Public Health Programs).

Title: Agency Information Collection Activities Supporting the Second Cycle of Unregulated Contaminant Monitoring in Public Water Systems

ICR numbers: EPA ICR No. 2192.03, OMB Control No. 2040-0270.

ICR status: This ICR is currently scheduled to expire on November 30, 2009. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Safe Drinking Water Act (SDWA), as amended in 1996, directs EPA to establish criteria for a program to monitor not more than 30 unregulated contaminants every five years. EPA published the first group of contaminants in the Unregulated Contaminant Monitoring Regulation (i.e., UCMR 1), which established a revised approach for UCMR implementation, in the Federal Register dated September 17, 1999 (64 FR 50556). EPA published the second group of contaminants in UCMR 2, in the Federal Register dated January 4, 2007 (72 FR 367). This regulation met the SDWA requirement by identifying 25 new priority contaminants to be monitored during the UCMR 2 cycle of 2007-2011.

Under UCMR 2, Assessment Monitoring uses more common analytical method technologies used by drinking water laboratories. All PWSs serving more than 10,000 people, and 800 representative PWSs serving fewer than 10,001 people are required to monitor for the 10 “List 1” contaminants during a 12-month period between January 2008-December 2010. Screening Survey monitoring uses more specialized analytical method technologies not commonly used by drinking water laboratories. All PWSs serving more than 100,000 people, 320 representative PWSs serving 10,001-100,000 people, and 480 representative PWSs serving fewer than 10,001 people are required to monitor for the 15 “List 2” contaminants during a 12-month period between January 2008-December 2010.

This notice proposes renewal of the currently approved UCMR 2 ICR (OMB Control No. 2040-0270), which covers the period of 2007-2009. This ICR renewal will account for activities conducted during 2010-2012. Note that the complete five-year UCMR 2 cycle of 2007-2011 overlaps with the applicable ICR renewal period only during 2010 and 2011. Public water systems will only be involved in active monitoring during 2010 (i.e., one-third of this ICR period).

Burden Statement: The annual public reporting and recordkeeping burden for this collection of information is estimated to average 1.9 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR supporting statement provides a detailed explanation of the Agency's estimate, which is only briefly summarized here:

Estimated total number of potential respondents: 1,694 (1,638 public water systems and 56 State primacy agencies).

Frequency of response: 1 response per year.

Estimated total average number of responses for each respondent: 3.

Estimated total annual burden hours: 9,761.

Estimated average number of burden hours per response: 1.9.

Estimated total annual costs: $3,250,616. This includes an estimated burden cost of $387,096 and an estimated cost of $2,863,520 for analytical costs.

Small systems (those serving 10,000 or fewer) that are selected for UCMR 2 monitoring will sample an average of 2.7 times per system (i.e., number of responses per system) across the three-year ICR renewal period of 2010-2012. The average total burden per response for small systems is estimated to be 1.8 hours. Large systems (those serving 10,001 to 100,000) and very large systems (those serving more than 100,000) will sample and report an average of 3.1 and 3.6 times per system, respectively, across the three-year ICR period of 2010-2012. The average total burdens per response for large and very large systems are estimated to be 3.8 and 8.7 hours, respectively. The larger burden per response for the very large systems reflects the fact that these systems typically have more sampling locations than large systems. States are assumed to incur 2 responses over the three-year ICR period related to coordination with EPA and systems, with an average burden per response of 95.2 hours. In aggregate, during the ICR period of 2010-2012, the average response (e.g., responses from systems and States) is associated with a total burden of 5.8 hours, with a labor plus non-labor cost of $1,939 per response.

The annual average per respondent burden hours and costs for the ICR period of 2010-2012 are: small systems—1.6 hour burden at $44 for labor; large systems—3.8 hours at $114 for labor, and $1,747 for analytical costs; very large systems—10.4 hours at $369 for labor, and $7,260 for analytical costs; and States—63.5 hours at $3,499 for labor. Annual average burden and cost per respondent (including both systems and States) is estimated to be 5.8 hours, with a labor plus non-labor cost of $1,919 per respondent (note that small systems do not pay for testing costs, so they only incur labor costs). The total annual burden for the ICR reporting period of 2010-2012 is 9,761 hours (with a labor cost of $387,096); the total annual analytical cost is $2.86 million.

Are There Changes in the Estimates From the Last Approval?

The renewal of this ICR will result in an overall decrease of 91,875 hours in the total estimated respondent burden identified in the currently approved ICR (OMB Control No. 2040-0270). The complete five-year UCMR 2 cycle of 2007-2011 overlaps with the applicable ICR renewal period only during 2010 and 2011. Moreover, public water systems will only be involved in active monitoring during 2010 (i.e., one-third of this ICR period). Thus, the reasons that respondents to UCMR 2 will incur a different burden during this second ICR period of 2010-2012, than during the first UCMR 2 ICR period of 2007-2009 include:

• Fewer PWSs participating during this ICR period: UCMR 2 monitoring takes place from 2008-2010, with approximately ⅓ of systems participating in each of those three years. Thus, during the first ICR period of 2007-2009, approximately ⅔ of participating systems (~ 3,275 systems) have completed their required monitoring, and during the second ICR period of 2010-2012, the remaining ⅓ (~ 1,638 systems) will complete their required monitoring.

• Schedule of activities for PWSs different during this ICR period: Some initial activities were conducted by all systems during 2007 (or prior to monitoring), including reading regulations, and reporting prior to monitoring (contact and sampling location information, and proposals to reduce the number of required monitoring locations). Thus, there are some PWS activities that took place during the first UCMR 2 ICR period of 2007-2009, that will not take place during the second ICR period of 2010-2012.

• Schedule of activities also different for participating States and EPA: Management and support activities for States and EPA also vary with the UCMR 2 monitoring schedule. Thus, both States and EPA are expected to have different burdens during this second UCMR 2 ICR period of 2010-2012.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: June 1, 2009.
Cynthia C. Dougherty,
Director, Office of Ground Water and Drinking Water.

[FR Doc. E9-13490 Filed 6-8-09; 8:45 am]

BILLING CODE 6560-50-P